DEPARTMENT OF THE INTERIOR

National Park Service

36 CFR Part 7

RIN 1024-AD80

Special Regulations, Areas of the National Park System, Mammoth Cave National Park

AGENCY: National Park Service, Interior.

ACTION: Proposed rule.

SUMMARY: The National Park Service (NPS) proposes to designate four bicycle routes within Mammoth Cave National Park. This proposed rule is necessary to implement portions of the park's Comprehensive Trail Management Plan and the requirements of the NPS general regulations require that a special regulation be promulgated in order to allow off-road bicycle use on routes outside of developed park areas. Authorizing routes for bicycling will address the significant interest of the visiting public for bicycling in the park. This proposed rule would allow bicycle use on a new Connector Trail in the vicinity of Maple Springs; the Big Hollow Trail, a new bike trail in the hilly country of the park north of the Green River; the nine-mile Mammoth Cave Railroad Bike & Hike Trail; and the White Oak Trail.

DATES: Comments must be received by July 18, 2011.

ADDRESSES: You may submit comments, identified by the Regulation Identifier Number, (RIN) 1024-AD80 by any of the following methods:

Federal rulemaking portal: http://www.regulations.gov—Follow the instructions for submitting comments.

Mail or hand delivery to Superintendent, Mammoth Cave National Park, P.O. Box 7, Mammoth Cave, Kentucky 42259.

FOR FURTHER INFORMATION CONTACT: A.J. North, Regulations Coordinator, National Park Service, 1849 C Street, NW., Room 2355, Washington, DC 20240. Phone: (202) 208-5268. E-mail: AJ_North@nps.gov.

SUPPLEMENTARY INFORMATION:

Background

Mammoth Cave National Park is the core of the largest, most complex, and best known karst area in the world. Karst is a geologic term which refers to areas of irregular limestone in which erosion has produced features such as fissures, sinkholes, underground streams, sinking springs, and caverns. The many types of geologic features present within the extensive cave system are the product of a unique set of conditions found nowhere else. The 365 miles of passageways that have been surveyed and mapped define Mammoth Cave as the longest cave system in the world.

The mission of Mammoth Cave National Park is to protect and preserve the extensive limestone caverns and associated karst topography, scenic river-ways, original forests, other biological resources, and evidence of past and contemporary ways of life. Mammoth Cave National Park also strives to provide for public education and enrichment through scientific study and to provide for the development and sustainable use of recreation resources and opportunities.

Legislation and Purpose of the Park

As early as 1905, Members of the Kentucky Congressional delegation suggested Mammoth Cave as a national park.

In its April 18, 1926 report to the Secretary of the Interior, the Southern Appalachian National Park Commission recommended national park status for the Mammoth Cave region for, among other reasons, the:

* * * beautiful and wonderful formations * * * great underground labyrinth * * * of remarkable geological and recreational interest perhaps unparalleled elsewhere * * * thousands of curious sinkholes of varying sizes through which much of the drainage is carried to underground streams, there being few surface brooks or creeks;

The Commission also recommended lands above ground in the region of the cave for inclusion in the national park because of the:

* * * exceptional opportunity for developing a great national recreational park of outstanding service in the very heart of our Nation's densest population and at a time when the need is increasingly urgent and most inadequately provided for.

The Congress of the United States saw the value of including surface lands as part of the park. Language in Senate, Committee on Public Lands and Surveys, Report No. 823, May 10, 1926, and the House of Representatives, Committee on the Public Lands, Report No. 1178, May 12, 1926, on the bill to authorize Mammoth Cave National Park said the park would:

* * * insure a great recreational ground * * * where * * * thousands of our people may find * * * the most delightful outdoor recreation in * * * traversing the picturesque and rugged hills and valleys and great forests of the region included in the proposed park area.

On May 25, 1926, Congress authorized the establishment of Mammoth Cave National Park (44 Stat. 635), and on July 1, 1941, Mammoth Cave was declared a national park. Subsequently, the Great Onyx Cave and Crystal Cave properties were purchased and added to the park on April 7, 1961. The park now comprises 52,830 acres.

History of Trail Development

The interest in outdoor recreation for the Mammoth Cave area identified in the 1926 Southern Appalachian Report has not diminished. Through the years, park managers have responded to changing trends in recreation: The Wild Cave tour began in 1969; a system of backcountry trails was initiated in the 1970s; in the 1980s, a horse livery on the park boundary began offering guided rides on park trails, and canoe and kayak liveries began shuttle services on the Green and Nolin rivers. In 2005, the Mammoth Cave Railroad Bike & Hike Trail was completed, connecting the heart of the park with one of the gateway communities (two other gateway communities have expressed interest in constructing similar trails); and the 2007 Comprehensive Trail Management Plan calls for bicycle use on certain trails in the park.

The Park has approximately 85 miles of open trails. While all trails are open to hiking, approximately 44.5 miles of trail are open to horses, approximately 22.5 miles of trail are open to bicycles, and 5.5 miles of trail accommodate both horses and bicycles.

Over the years, trails were improved and expanded into a series of loops which compose the first 6.5 miles of the front-country trail system in the vicinity of the park's visitor center and nearby Green River. Other trails, including trails at Sloans Pond, Turnhole Bend, Sand Cave, and Cedar Sink, were developed as short hikes to park features.

In the early 1970s, the park planned a series of trails in the more than 20,000 acres of backcountry area on the north side of the Green River. In 1974, those trails were officially opened to hiking and horseback riding. The main trails of that 55-mile system followed old and pre-existing dirt roads, with the remaining trails built as connections between those dirt roads to create loops.

In 1999, a local biking club asked park management about the possibility of permitting bicycling on one or more trails in the park. After further consideration, approximately 13 miles of trails were opened to bicycling on an experimental basis, while continuing to allow hiking and horseback riding on the same trails.

In February 2005, park officials organized the first Backcountry Summit meeting between Mammoth Cave National Park, the Bowling Green League of Bicyclists, the Sierra Club, and the Mammoth Cave Equestrian Trail Riders Association. The purpose of this meeting was to provide an avenue of communication between park officials and all user groups regarding improving and maintaining backcountry trails and other backcountry issues.

Comprehensive Trail Management Plan

To address increasing demands for trail use, the Park developed a Comprehensive Trail Management Plan and Environmental Assessment (EA) in 2007 to insure protection of park resources while providing for public use of the trails.

The purpose of the trail plan was to develop and implement objectives and strategies for the protection, management, and use of trails park-wide for a period of 10 years. The plan identifies designated trails and access points as well as the type of activity (hiking, biking, horseback riding, or a combination of those activities) for which each trail could be used.

The park staff utilized NPS Management Policies 2006 and the purposes for which the park was established by Congress to develop objectives and ensure the appropriateness of designating trails and the uses allowed for each trail within Mammoth Cave National Park.

One of the most important concepts incorporated into the trail plan was sustainability. Under the plan, the park will use sustainable material and techniques for trail maintenance and future trail design and construction projects. The park will use techniques such as maximum grade limits, water bars, and large dips in the trail called grade reversals to minimize or slow erosion from water and use. The park will build bridges and utilize materials such as gravel, landscape timbers, and geotextile to create a more durable trail surface and protect potentially vulnerable trail features.

The park trail plan proposed actions that could have environmental consequences, such as constructing trails or changing trail alignments, so NPS was required by the National Environmental Policy Act (NEPA) to evaluate the potential environmental impacts of those actions. The associated EA evaluated several alternative proposed actions or variations for a trail plan, including a “no action” alternative that would not change the way the trails were currently managed.

The draft plan and accompanying EA were prepared after a public meeting on June 29, 2006, and after a public scoping period from June 29 to July 14, 2006. After the draft plan and accompanying EA were prepared and published, NPS held a second public meeting on February 7, 2008 in conjunction with a 60-day comment period from January 24, 2008 to March 24, 2008.

Selected Alternative

On November 14, 2008, the park selected Alternative 4. A finding of no significant impact (FONSI) for the Comprehensive Trail Management Plan was approved on December 18, 2008. Public comment was overwhelmingly in support of Alternative 4 and opposed to the park's proposed preferred alternative, Alternative 5. The primary difference between the two alternatives is that under Alternative 4, NPS would construct a new trail primarily for bicycle use whereas Alternative 5 called for removal of horses from the existing First Creek Trail, in order to allow bicycles on that trail.

The NPS has determined bicycle use to be appropriate for certain trails in Mammoth Cave National Park, with the incorporation of sustainable design, construction, and maintenance standards and materials. Minimizing trail damage and deterioration and the accompanying environmental impacts is an essential element of Alternative 4. This alternative also separates horse and bicycle use in response to public concerns about user conflict or significant changes in or effect on visitor use due to conflict. To address these concerns, bicycle use will be eliminated on the Sal Hollow, Buffalo, and Turnhole Bend Trails, and the Big Hollow Trail will be constructed for bicycle use.

The Plan, EA and Finding of No Significant Impact, (FONSI), are available online at: http://www.nps.gov/maca/parkmgmt/planning.

Connector Trail

Subject to the results of this rulemaking, a new connector trail will be designed and constructed for the purpose of connecting access points and areas with trails, including the Maple Springs Group Campground, Maple Springs Trailhead, Mammoth Cave International Center for Science and Learning, Big Hollow Trailhead, and the Raymer Hollow Trailhead. This connector would run from the Maple Springs Trailhead to the Raymer Hollow Trailhead, and would be a wide, hardened-gravel trail to facilitate heavy use and two-way traffic of hikers, bicyclists, and horseback riders. The section of the connector trail between Maple Springs Trailhead and the Big Hollow Trailhead would be designated as multiple-use, and the section from the Big Hollow Trailhead to the Raymer Hollow would be restricted to hikers and horses. As part of the connector trail development, a new parking area would be constructed along the Green River Ferry Road at the Big Hollow Trailhead.

The new parking area along the Green River Ferry Road would allow bicyclists, hikers, and equestrians access to the horse and hiking trails or Big Hollow Trail without using the multiple-use part of the connector. The lot adds parking capacity to the trail system, as well as allowing visitors to separate themselves from other user groups. When the connector trail is complete, the trailhead and trails at the Good Spring Baptist Church will be eliminated, as access will no longer be needed to the Raymer Hollow Trail. Further, elimination of the trails and trailhead would greatly reduce the impact on and degradation of the Good Springs Baptist Church cultural site.

Currently, the only way for equestrians, bicyclists, and hikers to access trailheads is by using the Maple Springs Loop Road and the Good Spring Church Road, which can be congested with large pickup trucks, horse trailers, and other passenger vehicles. Use of those roadways creates a potential hazard from traffic for trail users. The connector trail will provide an alternative to using the roads, and increase public safety by getting these trail users away from the roads and the potential for collision with vehicles.

Big Hollow Bicycle Trail

The selected alternative includes a six-mile single track mountain-bike-type loop, named the Big Hollow Trail, which is being constructed east of the Green River Ferry Road-North and on the ridge west of Big Hollow. Bicycling and hiking would be allowed, but the trail would be closed to horse use. Public comment on the EA was substantially in support of construction of this trail for bicycle use.

This new trail increases opportunities for bicycle use without reducing the trails accessible to horse use, while maintaining separation of horse and bicycle users. Separation of these activities should improve the recreational experience for user groups and offer bicyclists access to backcountry scenery.

Since the trail would be new construction, the selected alternative will have more impact on park resources than other alternatives, but we concluded will still not have a significant effect on the environment. Vegetation will be removed on the trail surface, and cleared along the trail margins, but sustainable materials and construction techniques will be used to build the trail which will help control and minimize surface degradation, erosion and other adverse effects on surrounding park resources. This trail will not pass through floodplains, cross streams, or be located near wetlands, and therefore is expected to have no new impacts on water resources.

Vegetation and tree removal identified in this alternative would be completed in accordance with the “Biological Opinion for the Effects of the Hazard Tree Removal and Vegetation Management Program to the Indiana Bat at Mammoth Cave National Park, Kentucky” to ensure the activities would be considered “not likely to adversely affect” the species.

To minimize any effect on archeological resources, the park will survey areas where ground disturbance would take place and adjust trail alignment to avoid adverse impacts. This trail will not pass through or near cultural sites.

Mammoth Cave Railroad Bike & Hike Trail

An environmental assessment for the Mammoth Cave Railroad Bike & Hike Trail was completed in 1999, and amended in 2004. Between 2004 and 2007, the National Park Service constructed a nine-mile, graveled hiking and biking trail. The Mammoth Cave Railroad Bike & Hike Trail follows the general route of a historic railroad bed leading from the visitor center to the park boundary at Park City and receives significant daily use. The trail passes close enough to the campground area to provide hiking and bicycling opportunities for those camping at the park. The trail continues past the campground, through low wetlands and higher elevations on the ridge-tops, providing the user with a varied ecological view of the park. Several wayside exhibits along the trail recount historic facts regarding the old railroad route, including past events and structures that played a significant role in the history of the area. The Bike and Hike trail was designed and constructed utilizing modern technology and sustainable design. The eight-foot wide graveled surface was designed to offer a comparatively easy, family-style bicycle trail as opposed to the single-track, mountain-bike-type Big Hollow Trail.

The Bike and Hike trail will connect to historic Bell's Tavern upon completion of Park City's bike trail. The park has recently received expressions of interest from the communities of Cave City and Brownsville to construct similar bike trails that could connect with the Mammoth Cave Railroad Bike and Hike Trail. These improvements would provide opportunities for the use of the park and contribute to the `Connecting People to Parks' initiative of the NPS and the President's America's Great Outdoors initiative.

White Oak Trail

The Comprehensive Trail Management Plan also identified the White Oak Trail as a multiple-use trail, and this proposed rule would designate it as a trail for bicycles in addition to hiking and horseback riding. The trail is on an old roadbed and is wide, fairly level, and currently has a relatively low level of use. The flat and wide nature of the trail provides conditions that would tend to minimize user conflicts and support the multiple-use designation. The NPS would continue to occasional use this trail for administrative vehicle access to backcountry sites for emergency response and to conduct maintenance and monitoring activities.

Effect of This Proposed Rule

The purpose of this proposed rule is to authorize bicycle use on the Connector, Big Hollow, Mammoth Cave Railroad Bike and Hike, and White Oak trails. NPS regulations require a special regulation for such use, since the trails do not fall within developed areas of the park, and they are not park roads. Without such a special rule, bicycling could not be authorizes on these trails, and the full park-wide trails management plan could not be implemented.

Compliance With Other Laws and Executive Orders

Regulatory Planning and Review (Executive Order 12866)

This document is not a significant rule and is not subject to review by the Office of Management and Budget under Executive Order 12866.

1. This rule will not have an effect of $100 million or more on the economy. It will not adversely affect in a material way the economy, productivity, competition, jobs, the environment, public health or safety, or State, local, or Tribal governments or communities. It is anticipated that establishment of these trails will generate positive benefits and no costs to visitors, businesses, or local communities. This conclusion is based on the results of an NPS economic analysis of the effects of the rule, dated November 17, 2009, which is available on http://www.regulations.gov.

2. This rule will not create a serious inconsistency or otherwise interfere with an action taken or planned by another agency. Actions taken under this rule will not interfere with other agencies or local government plans, policies, or controls. This is an agency specific rule.

3. This rule does not alter the budgetary effects of entitlements, grants, user fees, or loan programs or the rights or obligations of their recipients. No grants or other forms of monetary supplements are involved.

4. This rule does not raise novel legal or policy issues. The rule implements the special regulation required by NPS general regulations, to allow bicycle use on four trails designated as bicycle routes, within Mammoth Cave National Park.

Regulatory Flexibility Act (RFA)

The Department of the Interior certifies that this document will not have a significant economic effect on a substantial number of small entities under the Regulatory Flexibility Act (5 U.S.C. 601 et seq.). This conclusion is based on the results of an NPS economic analysis of the effects of the rule, dated November 17, 2009, available for review at: http://www.nps.gov/maca/parkmgmt/planning, which incorporated a regulatory flexibility threshold analysis. The rule would reasonably increase park visitation and thereby generate benefits for businesses, including small entities, through increased visitor spending. Consequently, the rule will not impose a significant economic impact on a substantial number of small entities.

Small Business Regulatory Enforcement Fairness Act (SBREFA)

This rule is not a major rule under 5 U.S.C. 804(2), the Small Business Regulatory Enforcement Fairness Act. This rule:

a. Does not have an annual effect on the economy of $100 million or more. There are no businesses in the surrounding area economically dependent on continued bicycle use on these trails. The November 2009 NPS economic analysis estimated that the rule would add a benefit to local business in the form of new visitors attracted to the area to use the trails, and not have an effect of $100 million on the economy.

b. Will not cause a major increase in costs or prices for consumers, individual industries, Federal, state, or local government agencies, or geographic regions. The rule will not impose restrictions on local businesses in the form of fees, training, record keeping, or other measures that would increase costs.

The economic analysis projected a net benefit for the Federal government and a consumer surplus of $27.02/day for new visitors and $12.01/day for current visitors.

c. Does not have significant adverse effects on competition, employment, investment, productivity, innovation, or the ability of U.S. based enterprises to compete with foreign based enterprises. The rule is internal to National Park Service operations, and has been determined through economic analysis not to have adverse effects.

Unfunded Mandates Reform Act (UMRA)

This rule does not impose an unfunded mandate on State, local, or Tribal governments or the private sector of more than $100 million per year. The rule does not have a significant or unique effect on State local or Tribal governments or the private sector. This rulemaking addresses only actions that will be taken by the National Park Service. It will not require any state, local or Tribal government to take any action that is not funded; it is an agency specific rule and imposes no requirements on small governments.

A statement containing the information required by the Unfunded Mandates Reform Act (2 U.S.C. 1531 et seq.) is not required.

Takings (Executive Order 12630)

Under the criteria in Executive Order 12630, this rule does not have significant takings implications. A taking implication assessment is not required. This rule designates park trails inside the park, and though the trails may connect with trails external to the park, the rule does not require the taking of land for trail outside the park.

Federalism (Executive Order 13132).

Under the criteria in Executive Order 13132, this rule does not have sufficient federalism implications to warrant the preparation of a Federalism summary impact statement. This rule only effects use of NPS administered lands. It has no effect on other areas. A Federalism summary impact statement is not required.

Civil Justice Reform (Executive Order 12988)

This rule complies with the requirements of Executive Order 12988. Specifically, this rule:

a. Meets the criteria of section 3(a) requiring that all regulations be reviewed to eliminate errors and ambiguity and be written to minimize litigation; and

b. Meets the criteria of section 3(b)(2) requiring that all regulations be written in clear language and contain clear legal standards.

Consultation With Indian Tribes (Executive Order 13175)

Under the criteria in Executive Order 13175, we have evaluated this rule and determined that it has no potential effects on Federally recognized Indian Tribes. The question was considered as part of the environmental assessment, and trails were configured to avoid areas identified as archeological sites, specifically any with known burials. In addition to the EA, past consultation with the Tribes has been important in the identification of concerns or issues of cultural interest.

Paperwork Reduction Act (PRA)

This rule does not contain information collection requirements, and a submission under the Paperwork Reduction Act (PRA) is not required.

National Environmental Policy Act (NEPA)

The NPS prepared environmental assessments to determine whether the actions taken through this rule would have a significant impact on the quality of the human environment under the National Environmental Policy Act of 1969.

A Comprehensive Trail Management Plan and Environmental Assessment for the management of trails were completed and a finding of no significant impact (FONSI) approved in December 2008. A separate plan and EA was prepared for the Mammoth Cave Railroad Bike and Hike Trail in 2004. These documents may be reviewed at: http://www.nps.gov/maca/parkmgmt/planning. The Department has determined that further compliance under this Act is not required for any of these proposed actions.

Information Quality Act (IQA)

In developing this rule we did not conduct or use a study, experiment, or survey requiring peer review under the Information Quality Act (Pub. L. 106-554).

Effects on the Energy Supply (Executive Order 13211)

This rule is not a significant energy action under the definition in Executive Order 13211. A Statement of Energy Effects is not required.

Clarity of This Rule

We are required by Executive Orders 12866 and 12988 and by the Presidential Memorandum of June 1, 1998, to write all rules in plain language. This means that each rule we publish must:

a. Be logically organized;

b. Use the active voice to address readers directly;

c. Use clear language rather than jargon;

d. Be divided into short sections and sentences; and

e. Use lists and tables wherever possible.

If you feel that we have not met these requirements, send us comments by one of the methods listed in the ADDRESSES section. To better help us revise the rule, your comments should be as specific as possible. For example, you should tell us the numbers of the sections or paragraphs that are unclearly written, which sections or sentences are too long, the sections where you feel lists or tables would be useful, etc.

Drafting Information

The principle contributors to this proposed rulemaking are: Patrick H. Reed, Superintendent, L. W. Johnson, Natural Resources Specialist, Ken Kern, Management Assistant, Wayne Elliot, Chief Ranger, Vickie T. Carson, Public Information Officer, and Philip A. Selleck, Associate Regional Director for Operations and Education, NCR, Washington, DC.

Public Participation

All submissions received must include the agency name and docket number or Regulation Identifer Number (RIN) for this rulemaking. All comments received will be posted without change to http://www.regulations.gov.

Docket: For access to the docket to read background documents or comments received, go to http://www.regulations.gov and enter “1024-AD80” in the “Keyword or ID” search box.

Public Availability of Comments

Before including your address, phone number, e-mail address, or other personal identifying information in your comment, you should be aware that your entire comment, including your personal identifying information may be made publicly available at any time. While you can ask us in your comment to withhold your personal identifying information from public review, we cannot guarantee that we will be able to do so.

List of Subjects in 36 CFR Part 7

District of Columbia, National parks, Reporting and recordkeeping requirements.

For the reasons stated in the preamble, the National Park Service proposes to amend 36 CFR part 7 as follows:

PART 7—SPECIAL REGULATIONS, AREAS OF THE NATIONAL PARK SYSTEM

1. The authority for Part 7 continues to read as follows:

Authority: 16 U.S.C. 1, 3, 9a, 460q, 462(k); Sec. 7.96 also issued under 36 U.S.C. 501-511, DC Code 10-137 (2001) and DC Code 50-2201.07 (2001).

2. In § 7.36, add paragraph (c) to read as follows:

§ 7.36 Mammoth Cave National Park.

* * * * *

(c) Bicycles. (1) The following trails are designated as routes open to bicycle use:

(i) Connector Trail from the Big Hollow Trailhead to the Maple Springs Trailhead;

(ii) Big Hollow Trail;

(iii) Mammoth Cave Railroad Bike & Hike Trail; and

(iv) White Oak Trail.

(2) The following are prohibited:

(i) Possession of a bicycle on routes or trails not designated as open to bicycle use;

(ii) Operating a bicycle on designated bicycle routes between sunset and sunrise without exhibiting on the bicycle, or on the operator, an activated white light that is visible from a distance of at least 500 feet to the front and a red light or reflector visible from at least 200 feet to the rear;

(iii) Operating a bicycle in excess of 15 miles per hour on designated routes; and

(iv) Failing to yield the right of way to pedestrians or hikers.

(3) The Superintendent may open or close designated bicycle routes, or portions thereof, pursuant to the criteria and procedures of §§ 1.5 and 1.7 of this chapter.

Dated: May 4, 2011.
Will Shafroth,
Acting Assistant Secretary Fish and Wildlife and Parks.

[FR Doc. 2011-12038 Filed 5-16-11; 8:45 am]

BILLING CODE 4310-T3-P